DEPARTMENT OF TRANSPORTATION

Federal Aviation Administration

[Docket No. FAA-2020-0773; Notice of Availability Docket No. 20-AEA-14]

Notice of Availability of Categorical Exclusion and Record of Decision (CATEX/ROD) for DCA Airspace Procedures

AGENCY: Federal Aviation Administration, (FAA), DOT.

ACTION: Notice of availability.

SUMMARY: The FAA, Eastern Service Center is issuing this notice to advise the public of the availability of the Categorical Exclusion/Record of Decision (CATEX/ROD) approving certain airspace procedure changes at Ronald Reagan Washington National Airport (DCA). The FAA reviewed the action and determined it to be categorically excluded from further environmental review. The FAA's Record of Decision also documents the FAA's compliance with Section 106 of the National Historic Preservation Act and other special purpose laws.

FOR FURTHER INFORMATION CONTACT: Mr. Andrew Pieroni, Federal Aviation Administration, Operations Support Group, Eastern Service Center, 1701 Columbia Avenue, College Park, Georgia 30337, (404) 305-5586. Additional information about the FAA's actions and environmental review is available at the following website: https://www.faa.gov/air_traffic/community_involvement/dca_p56/.

SUPPLEMENTARY INFORMATION: The Federal Aviation Administration (FAA) approved these procedure changes to enhance national security, at the request of the United States Secret Service, by amending eight existing north flow standard instrument departures (SIDs) by moving one waypoint approximately 784 feet to the southwest to direct aircraft further away from protected airspace above the White House and Naval Observatory. Additionally, in response to a request from the Reagan National Community Noise Working Group, the FAA is amending one waypoint on six existing SIDs, which will route aircraft closer to the Potomac River. Furthermore, the FAA is establishing the AMEEE1 SID to replace the HOLTB1 and BOOCK3, both of which will be canceled (HOLTB1 will remain in effect until it is canceled). The AMEEE procedure will use the new waypoint established for national security, and will otherwise not change from the procedures it is replacing. Finally, to integrate air traffic with the Northeast Corridor (NEC) and Atlantic Coast Routes (ACR) procedures, the FAA is implementing the SCOOB transition by extending the AMEEE (HOLTB/BOOCK replacement procedure) enroute transition beyond waypoint COLIN to SCOOB. This final action also requires amending the Baltimore Washington Airport (BWI) CONLE SID and Dulles Airport (IAD) JCOBY SID to establish the SCOOB Transition beyond COLIN waypoint. The SCOOB transition will be used for aircraft flying over 18,000 feet above ground level (AGL). The FAA reviewed the action and determined it to be categorically excluded from further environmental review according to FAA Order 1050.1F, Environmental Impacts: Policies and Procedures. The applicable categorical exclusion is § 5-6.5(i.). The Record of Decision was signed in College Park, Georgia on July 31, 2020, and the FAA issued this decision to the public on August 17, 2020 by publishing the decision on the project website, available at: https://www.faa.gov/air_traffic/community_involvement/dca_p56/.

Additional information about the FAA's actions and environmental review can be found at the same website. This Categorical Exclusion/Record of Decision constitutes a final order of the FAA Administrator and is subject to exclusive judicial review under 49 U.S.C. 46110 by the U.S. Circuit Court of Appeals for the District of Columbia or the U.S. Circuit Court of Appeals for the circuit in which the person contesting the decision resides or has its principal place of business. Any party having a substantial interest in this order may apply for review of the decision by filing a petition for review in the appropriate U.S. Court of Appeals no later than 60 days after the order is issued in accordance with the provisions of 49 U.S.C. 46110. Any party seeking to stay the implementation of this Categorical Exclusion/Record of Decision must file an application with the FAA prior to seeking judicial relief in the form of a stay, as provided in Rule 18(a), Federal Rules of Appellate Procedure.

Andrew Pieroni,
EPS Operations Support Group, Eastern Service Center, Air Traffic Organization.

[FR Doc. 2020-18584 Filed 8-24-20; 8:45 am]

BILLING CODE 4910-13-P